DEPARTMENT OF THE TREASURY

Office of the Comptroller of the Currency

Agency Information Collection Activities; Information Collection Revision; Submission for OMB Review; Bank Secrecy Act/Money Laundering Risk Assessment

AGENCY: Office of the Comptroller of the Currency (OCC), Treasury.

ACTION: Notice and request for comment.

SUMMARY: The OCC, as part of its continuing effort to reduce paperwork and respondent burden, invites comment on a revised information collection as required by the Paperwork Reduction Act of 1995 (PRA). In accordance with the requirements of the PRA, the OCC may not conduct or sponsor, and the respondent is not required to respond to, an information collection unless it displays a currently valid Office of Management and Budget (OMB) control number. The OCC is soliciting comment concerning its information collection entitled, “Bank Secrecy Act/Money Laundering Risk Assessment,” also known as the Money Laundering Risk (MLR) System. The OCC also is giving notice that it has sent the collection to OMB for review.

DATES: Comments must be submitted by October 11, 2022.

ADDRESSES: Commenters are encouraged to submit comments by email, if possible. You may submit comments by any of the following methods:

• Email: prainfo@occ.treas.gov.

• Mail: Chief Counsel's Office, Attention: Comment Processing, 1557-0231, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0231” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

On June 8, 2022, the OCC published a 60-day notice for this information collection (87 FR 34927). You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching by OMB control number “1557-0231” or “Bank Secrecy Act/Money Laundering Risk Assessment.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, OCC Clearance Officer, (202) 874-5090, Chief Counsel's Office, Office of the Comptroller of the Currency, 400 7th Street SW, Washington, DC 20219. If you are deaf, hard of hearing, or have a speech disability please dial 7-1-1 to access telecommunications relay services.

SUPPLEMENTARY INFORMATION: Under the PRA, Federal agencies must obtain approval from the OMB for each collection of information they conduct or sponsor. “Collection of information” is defined in 44 U.S.C. 3502(3) and 5 CFR 1320.3(c) to include questions posed to agencies, instrumentalities, or employees of the United States, if the results are to be used for general statistical purposes, that is, if the results are to be used for statistical compilations of general public interest, including compilations showing the status or implementation of Federal activities and programs. The OCC asks that OMB extend its approval of the collection in this document.

Title: Bank Secrecy Act/Money Laundering Risk Assessment.

OMB Control No: 1557-0231.

Type of Review: Regular.

Affected Public: Business or other for-profit.

Abstract: The MLR System enhances the ability of examiners and bank management to identify and evaluate Bank Secrecy Act/Money Laundering and Office of Foreign Asset Control (OFAC) sanctions risks associated with banks' products, services, customers, and locations. As new products and services are introduced, existing products and services change, and banks expand through mergers and acquisitions, banks' evaluation of money laundering and terrorist financing risks should evolve as well. Consequently, the MLR System risk assessment is an important tool for the OCC's Bank Secrecy Act/Anti-Money Laundering and OFAC supervision activities because it allows the OCC to better identify those institutions, and business activities within institutions, that may pose heightened risk and then allocate examination resources accordingly. This risk assessment is critical for protecting U.S. financial institutions of all sizes from potential abuse from money laundering and terrorist financing. The MLR System also provides the OCC with information regarding products or customers that may be experiencing difficulties or challenges maintaining banking services. MLR data assists banks' management of BSA/AML programs and provides a starting point for banks to develop their risk assessments. An appropriate risk assessment allows controls to be effectively implemented for the lines of business, products, or entities that would elevate Bank Secrecy Act/Money Laundering and OFAC compliance risks.

The OCC collects MLR information for community and trust banks supervised by the OCC.

The OCC's annual Risk Summary Form (RSF) is fully automated making data entry quick and efficient and provides an electronic record for banks and the OCC. The RSF collects data about different products, services, customers, and geographies (PSCs). The OCC is introducing a few changes to the 2022 RSF to further improve the quality of the collected data, streamline the collection process and more accurately reflect the risks associated with the customers served by banks. For 2022, the RSF will include three changes:

1. The addition of six new PSCs: cash transactions, marijuana-related businesses, ATM Operators, crypto assets—custody, stablecoin issuance, and stablecoin payments.

2. The addition of two new customer types under the money transmitters category: administrators and exchangers of virtual currency; and crypto ATM operators.

3. The deletion of four existing PSCs: boat/airplane, bulk cash/currency repatriation customers, bulk cash/currency repatriation, and international branches.

The addition of these six new PSC categories increases the number of data collection points from 69 to 71 as shown in the table below:

No. | Existing PSCs | No. | New PSCs
1 | Convenience Stores | 1 | Cash Transactions
2 | Liquor Stores | 2 | Marijuana Related Businesses
3 | Domestic Charitable Organizations | 3 | ATM Operators
4 | Jewelry, Gem and Precious Metals Dealers | 4 | Crypto-Assets Custody
5 | Casinos | 5 | Stablecoin Issuance
6 | Car Dealers | 6 | Stablecoin Payments
7 | Boat/Airplane | 7 | Convenience Stores
8 | Domestic Private Banking | 8 | Liquor Stores
9 | Domestic Commercial Letters of Credit | 9 | Domestic Charitable Organizations
10 | Stand-by Letters of Credit | 10 | Jewelry, Gem and Precious Metals Dealers
11 | Customers/Accounts opened through the Internet, Mail, Wire or Phone (non-branch) | 11 | Casinos
12 | Domestic Deposit Brokers | 12 | Car Dealers
13 | Travel Agencies | 13 | Domestic Private Banking
14 | Broker Dealers | 14 | Domestic Commercial Letters of Credit
15 | Telemarketers | 15 | Stand-by Letters of Credit
16 | Remotely Created Check Customers | 16 | Customers/Accounts opened through the Internet, Mail, Wire or Phone (non-branch)
17 | Domestic Remote Deposit Capture Customers | 17 | Domestic Deposit Brokers
18 | Third Party Senders | 18 | Travel Agencies
19 | Issuance of Traveler's Checks, Official Bank Checks & Money Orders | 19 | Broker Dealers
20 | Domestic Wire Transfers | 20 | Telemarketers
21 | Domestic PUPID Wire Transfers | 21 | Remotely Created Check Customers
22 | ACH | 22 | Domestic Remote Deposit Capture Customers
23 | Remotely Created Checks | 23 | Third Party Senders
24 | Domestic Remote Deposit Capture | 24 | Issuance of Traveler's Checks, Official Bank Checks & Money Orders
25 | Non-Resident Alien Accounts | 25 | Domestic Wire Transfers
26 | Politically Exposed Persons | 26 | Domestic PUPID Wire Transfers
27 | Foreign Off-Shore Corporations | 27 | ACH
28 | Foreign Deposit Brokers | 28 | Remotely Created Checks
29 | Foreign Charitable Organizations | 29 | Domestic Remote Deposit Capture
30 | Import/Export | 30 | Non-Resident Alien Accounts
31 | Foreign Remote Deposit Capture Customers | 31 | Politically Exposed Persons
32 | Bulk Cash/Currency Repatriation Customers | 32 | Foreign Off-Shore Corporations
33 | International Branches | 33 | Foreign Deposit Brokers
34 | Foreign Correspondent Accounts | 34 | Foreign Charitable Organizations
35 | Payable Through Accounts | 35 | Import/Export
36 | Pouch Services | 36 | Foreign Remote Deposit Capture Customers
37 | Foreign Bank Affiliate | 37 | Foreign Correspondent Accounts
38 | International Department | 38 | Payable Through Accounts
39 | International Private Banking | 39 | Pouch Services
40 | Embassy & Consulate Banking | 40 | Foreign Bank Affiliate
41 | International Commercial Letters of Credit | 41 | International Department
42 | International Bank Drafts | 42 | International Private Banking
43 | International Wire Transfers | 43 | Embassy & Consulate Banking
44 | International PUPID Wire Transfers | 44 | International Commercial Letters of Credit
45 | Remittance Products | 45 | International Bank Drafts
46 | Cross-Border ACH | 46 | International Wire Transfers
47 | International Remote Deposit Capture | 47 | International PUPID Wire Transfers
48 | Bulk Cash/Currency Repatriation | 48 | Remittance Products
49 | Domestic Casas de Cambio/Currency Exchange | 49 | Cross-Border ACH
50 | Foreign Casas de Cambio/Currency Exchange | 50 | International Remote Deposit Capture
51 | Money Transmitters | 51 | Domestic Casas de Cambio/Currency Exchange
52 | Check Cashers | 52 | Foreign Casas de Cambio/Currency Exchange
53 | Issuers or Sellers of Traveler Checks or Money Orders | 53 | Money Transmitters
54 | Providers of Prepaid Access | 54 | Check Cashers
55 | Sellers of Prepaid Access | 55 | Issuers or Sellers of Traveler Checks or Money Orders
56 | Prepaid Cards | 56 | Providers of Prepaid Access
57 | Prepaid Card Programs—Third Party Sponsored | 57 | Sellers of Prepaid Access
58 | Prepaid Card Programs—Bank Sponsored | 58 | Prepaid Cards
59 | Prepaid Cardholders | 59 | Prepaid Card Programs—Third Party Sponsored
60 | Prepaid Card Program Managers | 60 | Prepaid Card Programs—Bank Sponsored
61 | Domestic Charitable Trusts & Foundations | 61 | Prepaid Cardholders
62 | Foreign Charitable Trusts & Foundations | 62 | Prepaid Card Program Managers
63 | Custodial Accounts | 63 | Domestic Charitable Trusts & Foundations
64 | Investment Advisory Accounts | 64 | Foreign Charitable Trusts & Foundations
65 | Revocable Trusts | 65 | Custodial Accounts
66 | Foreign Grantor or Beneficiaries | 66 | Investment Advisory Accounts
67 | Loans to Closely Held Corporations | 67 | Revocable Trusts
68 | Brokerage Department/Operations | 68 | Foreign Grantor or Beneficiaries
69 | Investment Advisory/Management | 69 | Loans to Closely Held Corporations
|  | 70 | Brokerage Department/Operations
|  | 71 | Investment Advisory/Management
* PSC category deletions (from the existing PSC column) and additions (from the new PSC column are italicized and denoted in bold.

The OCC estimates the burden of this collection of information as follows:

Burden Estimates:

Community and trust bank population:

Estimated Number of Respondents: 970.

Estimated Number of Responses: 970.

Frequency of Response: Annually.

Estimated Annual Burden: 7,760 hours.

Comments: On June 8, 2022, the OCC published a 60-day notice in the Federal Register concerning the collection, 87 FR 34927. The OCC received three comments from the public, including one from a banking association regarding the accuracy of the OCC's information collection burden estimate and the impact the changes in the PSCs would have on the data collection process. The respondent stated the OCC did not provide a basis for its estimated burden of 7,760 hours from an estimated 970 respondents. Per the respondent, the changes proposed to the MLR would require more than the eight hours per respondent estimated by the OCC and that the OCC had underestimated both the staff time and financial resources needed to update reporting systems to reflect the proposed changes. The respondent also commented that the introduction of six new products, services, customers, and geography categories (PSCs) and the resulting changes in the numbering and location of these PSCs would unnecessarily complicate the data collection process, require significant staff retraining, and potentially result in mis-categorizations of the PSCs.

The OCC has observed that the systems most banks currently maintain for MLR data collection purposes already support ready access to the data; thus, the changes to the MLR will not require additional significant investment in technology or systems to collect and report this data. The 7,760 hours in the OCC's estimated burden already includes an additional two hours to account for the two new MLR PSCs. Based on these existing systems and the changes to the MLR platform described below, the addition of the two hours should be sufficient to account for any system changes banks may have to make to collect and report the data for the new PSCs. With planning and minor programming changes to bank systems, the additional MLR data collection burden associated with the proposed changes will be minimal for banks of all sizes.

The introduction of the six new PSCs and the resulting changes in the listing numeration of the PSCs is a minor modification and will not significantly impact the data collection and reporting process. Recently, the OCC made major changes to the MLR platform that have resulted in a more modern, intuitive, and user-friendly collection tool. The current data collection platform, and support resources offered by the OCC, will assist banks with the data collection process. In addition, the OCC offers annual webinars where any changes to the data collection process are presented and discussed with bankers. During the webinars, bankers are given time to ask questions or raise any issues or concerns they may have related to this information collection. The changes to the MLR, introduced this year, will be discussed in detail during the 2022 MLR Webinar and give bankers additional opportunities to provide feedback. Moreover, each year, the OCC releases an updated MLR User Guide, complete with detailed instructions for banks to report MLR data. Finally, the OCC has a dedicated MLR email inbox for bankers to submit MLR-related questions and receive timely assistance from the OCC.

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Theodore J. Dowd,
Deputy Chief Counsel, Office of the Comptroller of the Currency.

[FR Doc. 2022-19375 Filed 9-7-22; 8:45 am]

BILLING CODE 4810-33-P